DEPARTMENT OF COMMERCE

National Oceanic and Atmospheric Administration

Western Pacific Fishery Management Council; Public Meetings

AGENCY: National Marine Fisheries Service (NMFS), National Oceanic and Atmospheric Administration (NOAA), Commerce.

ACTION: Notice of public meetings.

SUMMARY: The Eight Regional Fishery Management Councils (RFMCs) will convene a meeting of representatives of their respective Scientific and Statistical Committee (SSC) in Honolulu, HI.

DATES: The meeting will be held on February 23, 2015, from 8:30 a.m. to 5:30 p.m., February 24, 2015, from 8:30 a.m. to 4:30 p.m., and February 25, 2015, from 8:30 a.m. to 5 p.m.

ADDRESSES: The meeting will be held at the Ala Moana Hotel Garden Lanai, 410 Atkinson Drive, Honolulu, HI 96814. Host Council: Western Pacific Regional Fishery Management Council, 1164 Bishop Street, Suite 1400, Honolulu, HI 96813. For specific times and agendas, see SUPPLEMENTARY INFORMATION.

FOR FURTHER INFORMATION CONTACT: Kitty M. Simonds, Executive Director, Western Pacific Regional Fishery Management Council; telephone: (808) 522-8220.

SUPPLEMENTARY INFORMATION: The Magnuson Stevens Fishery Conservation and Management Act (MSA) requires that each Council maintain and utilize its SSCs to assist in the development, collection, evaluation, and peer review of information relevant to the development and amendment of fishery management plans (FMPs). In addition, the MSA mandates that each SSC shall provide its Council ongoing scientific advice for fishery management decisions, including recommendations for acceptable biological catch (ABC), preventing overfishing, maximum sustainable yield, and achieving rebuilding targets, and reports on stock status and health, bycatch, habitat status, social and economic impacts of management measures, and sustainability of fishing practices. The MSA also requires the Council to consider the ecosystem in managing the stocks in the FMPs.

At its May 2014 meeting, the Council Coordination Committee (CCC; a group consisting of the leadership from the eight Regional Fishery Management Councils), recommended that a fifth National SSC Workshop be convened to address uncertainties, data-limited situations, and ecosystem considerations in the fishery management process and Ecosystems Based Fishery Management (EBFM). Therefore, the purpose of this meeting is to examine the approaches being taken around the United States by the Council SSCs in addressing biological and management uncertainties, data-limited stocks, habitat and ecological variabilities in EBFM with considerations of a changing climate.

8:30 a.m.-5:30 p.m., Monday, February 23, 2015

1. Welcome Remarks

2. Introductions

3. SUBTHEME 1.a: ABC Specification for Data-Limited and Model-Resistant Stocks

A. Keynote Presentation: Managing data-poor fisheries down under

B. Keynote Presentation: Progress and roadblocks in the estimation of stock status and catch limits for global fisheries

C. Round Robin Session: Setting ABCs for data-limited/model-resistant stocks

D. Preliminary Q&A to the presenters

E. Plenary Discussion: ABC specification for data-limited and model-resistant stocks

4. SUBTHEME 1.b: Implementation of National Standard 2 in the Face of Uncertainty

A. Keynote Presentation: National Standard 2 in determining best scientific information available

B. Plenary Discussion: Implementation of National Standard 2 in the face of uncertainties

5. Develop Specific Recommendation to the CCC on Subtheme 1

8:30 a.m.-4:30 p.m., Tuesday, February 24, 2015

6. SUBTHEME 2: Evaluating Existing ABC Control Rules: Issues, Challenges and Solutions

A. Keynote Presentation: Addressing uncertainties in stock assessment in a variable environment

B. Keynote Presentation: Use of Management Strategy Evaluation to assess performance of harvest control rules

C. Keynote Presentation: Comparing performance among alternative ABC control rules

D. Round Robin Session: Evaluation of the current ABC control rules (with emphasis on how each council monitors the performance of the control rules, issues, challenges, and solutions)

E. Preliminary Q&A to the presenters

F. Plenary Discussion: Evaluating existing ABC control rules: Issues, challenges and solutions

7. Develop Specific Recommendation to the CCC for Subtheme 2

8. SUBTHEME 3.a: Incorporating Ecological, Environmental, and Climate Variability in Stock Assessment and Ecosystem Based Fishery Management

A. Keynote Presentation: Incorporating ecological, environmental, and climate considerations in stock assessments and ecosystem-based fishery management

B. Plenary Discussion: Incorporating ecological, environmental, and climate variability in stock assessment and ecosystem based fishery management

8:30 a.m.-5 p.m., Wednesday, February 25, 2015

C. Keynote presentation: Projecting climate change impacts on fish and fisheries

D. Keynote presentation: Shifting species distribution with climate change

E. Plenary Discussion: Incorporating ecological, environmental, and climatic variability in stock assessments and ecosystem based fishery management

9. Develop Specific Recommendation to the CCC for Subtheme 3.a

10. SUBTHEME 3.b: Building Habitat Condition in the Stock Assessment Process and Fishery Management Strategies

A. Keynote Presentation: The Habitat Assessment Improvement Plan: Collecting the habitat data to enhance stock assessment

B. Plenary Discussion: Building habitat condition in the stock assessment process and fishery management strategies

C. Keynote Presentation: Aspects of Habitat of Particular Concern for fish population dynamics and fishery management

D. Plenary Discussion: Building habitat condition in the stock assessment process and fishery management strategies

11. Develop Specific Recommendation to the CCC for Subtheme 3.b

Although non-emergency issues not contained in this agenda may come before these groups for discussion, in accordance with the MSA, those issues may not be the subject of formal action during these meetings. Actions will be restricted to those issues specifically identified in this notice and any issues arising after publication of this notice that require emergency action under Section 305(c) of the MSA, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: January 26, 2015.
Tracey L. Thompson,
Acting Deputy Director, Office of Sustainable Fisheries, National Marine Fisheries Service.

[FR Doc. 2015-01690 Filed 1-28-15; 8:45 am]

BILLING CODE 3510-22-P